LEGAL SERVICES CORPORATION

Notice of Intent To Award—Grant Awards for the Provision of Civil Legal Services to Eligible Low-Income Clients Beginning January 1, 2009

AGENCY: Legal Services Corporation.

ACTION: Announcement of intention to make FY 2009 Competitive Grant Awards.

SUMMARY: The Legal Services Corporation (LSC) hereby announces its intention to award grants and contracts to provide economical and effective delivery of high quality civil legal services to eligible low-income clients, beginning January 1, 2009.

DATES: All comments and recommendations must be received on or before the close of business on December 15, 2008.

ADDRESSES: Legal Services Corporation—Competitive Grants, Legal Services Corporation; 3333 K Street, NW., Third Floor; Washington, DC 20007.

FOR FURTHER INFORMATION CONTACT: Reginald Haley, Office of Program Performance, at (202) 295-1545, or haleyr@lsc.gov.

SUPPLEMENTARY INFORMATION: Pursuant to LSC's announcement of funding availability on April 4, 2008 (73 FR 18574), and Grant Renewal applications due on June 2, 2008, LSC intends to award funds to the following organizations to provide civil legal services in the indicated service areas. Amounts are subject to change.

Service area | Applicant name | Annualized grant amount
Alabama:
AL-4 | Legal Services Alabama, Inc | $6,224,674
MAL | Texas RioGrande Legal Aid, Inc | 31,879
Alaska:
AK-1 | Alaska Legal Services Corporation | 720,614
NAK-1 | Alaska Legal Services Corporation | 525,140
Arizona:
AZ-2 | DNA-Peoples Legal Services, Inc | 522,923
AZ-3 | Community Legal Services, Inc | 3,774,454
AZ-5 | Southern Arizona Legal Aid, Inc | 1,820,449
MAZ | Community Legal Services, Inc | 143,854
NAZ-5 | DNA-Peoples Legal Services, Inc | 2,533,824
NAZ-6 | Southern Arizona Legal Aid, Inc | 618,939
Arkansas:
AR-6 | Legal Aid of Arkansas, Inc | 1,449,768
AR-7 | Center for Arkansas Legal Services | 2,164,117
MAR | Texas RioGrande Legal Aid, Inc | 76,583
California
CA-1 | California Indian Legal Services, Inc | 32,919
CA-2 | Greater Bakersfield Legal Assistance, Inc | 914,522
CA-12 | Inland Counties Legal Services, Inc | 4,063,416
CA-14 | Legal Aid Society of San Diego, Inc | 2,841,488
CA-19 | Legal Aid Society of Orange County, Inc | 3,968,792
CA-26 | Central California Legal Services | 2,861,178
CA-27 | Legal Services of Northern California, Inc | 3,535,438
CA-28 | Bay Area Legal Aid | 4,167,881
CA-29 | Legal Aid Foundation of Los Angeles | 7,902,085
CA-30 | Neighborhood Legal Services of Los Angeles County | 4,667,690
CA-31 | California Rural Legal Assistance, Inc | 4,664,589
MCA | California Rural Legal Assistance, Inc | 2,557,741
NCA-1 | California Indian Legal Services, Inc | 857,881
Colorado:
CO-6 | Colorado Legal Services | 3,342,005
MCO | Colorado Legal Services | 143,899
NCO-1 | Colorado Legal Services | 93,252
Connecticut:
CT-1 | Statewide Legal Services of Connecticut, Inc | 2,309,701
NCT-1 | Pine Tree Legal Assistance, Inc | 15,201
Delaware:
DE-1 | Legal Services Corporation of Delaware, Inc | 602,419
MDE | Legal Aid Bureau, Inc | 24,055
District of Columbia:
DC-1 | Neighborhood Lgl. Svcs. Program of the Dist. of Col | 981,372
Florida:
FL-5 | Legal Services of Greater Miami, Inc | 3,439,909
FL-13 | Legal Services of North Florida, Inc | 1,412,494
FL-14 | Three Rivers Legal Services, Inc | 1,739,770
FL-15 | Community Legal Services of Mid-Florida, Inc | 3,003,141
FL-16 | Bay Area Legal Services, Inc | 2,548,178
FL-17 | Florida Rural Legal Services, Inc | 2,682,658
FL-18 | Coast to Coast Legal Aid of South Florida, Inc | 1,803,716
MFL | Florida Rural Legal Services, Inc | 870,176
Georgia:
GA-1 | Atlanta Legal Aid Society, Inc | 2,509,166
GA-2 | Georgia Legal Services Program | 6,376,119
MGA | Georgia Legal Services Program | 379,876
Guam:
GU-1 | Guam Legal Services Corporation | 311,816
Hawaii:
HI-1 | Legal Aid Society of Hawaii | 1,348,279
NHI-1 | Legal Aid Society of Hawaii | 222,428
Idaho:
ID-1 | Idaho Legal Aid Services, Inc | 1,151,879
MID | Idaho Legal Aid Services, Inc | 181,101
NID-1 | Idaho Legal Aid Services, Inc | 63,085
Illinois:
IL-3 | Land of Lincoln Legal Assistance Foundation, Inc | 2,398,320
IL-6 | Legal Assistance Foundation of Metro. Chicago | 6,260,443
IL-7 | Prairie State Legal Services, Inc | 2,678,284
MIL | Legal Assistance Foundation of Metro. Chicago | 241,866
Indiana:
IN-5 | Indiana Legal Services, Inc | 4,904,098
MIN | Indiana Legal Services, Inc | 110,165
Iowa:
IA-3 | Iowa Legal Aid | 2,275,787
MIA | Iowa Legal Aid | 36,557
Kansas:
KS-1 | Kansas Legal Services, Inc | 2,299,224
MKS | Kansas Legal Services, Inc | 11,517
Kentucky:
KY-2 | Legal Aid Society | 1,141,662
KY-5 | Appalachian Res. and Defense Fund of Kentucky | 1,970,137
KY-9 | Kentucky Legal Aid | 1,183,471
KY-10 | Legal Aid of the Bluegrass | 1,229,941
MKY | Texas RioGrande Legal Aid, Inc | 41,235
Louisiana:
LA-1 | Capital Area Legal Services Corporation | 1,373,069
LA-10 | Acadiana Legal Service Corporation | 1,944,899
LA-11 | Legal Services of North Louisiana, Inc | 1,824,796
LA-12 | Southeast Louisiana Legal Services Corporation | 2,458,484
MLA | Texas RioGrande Legal Aid, Inc | 26,681
Maine:
ME-1 | Pine Tree Legal Assistance, Inc | 1,144,853
MMX-1 | Pine Tree Legal Assistance, Inc | 121,009
NME-1 | Pine Tree Legal Assistance, Inc | 62,586
Maryland:
MD-1 | Legal Aid Bureau, Inc | 3,843,455
MMD | Legal Aid Bureau, Inc | 88,090
Massachusetts:
MA-4 | Merrimack Valley Legal Services, Inc | 804,133
MA-10 | Massachusetts Justice Project, Inc | 1,461,563
MA-11 | Volunteer Lawyers Project of the Boston Bar Assoc | 1,972,987
MA-12 | New Center for Legal Advocacy, Inc | 884,364
Michigan:
MI-9 | Legal Services of Northern Michigan, Inc | 684,155
MI-12 | Legal Services of South Central Michigan | 1,237,935
MI-13 | Legal Aid and Defender Association, Inc | 3,707,470
MI-14 | Legal Services of Eastern Michigan | 1,327,630
MI-15 | Legal Aid of Western Michigan | 1,615,517
MMI | Legal Services of South Central Michigan | 583,222
NMI-1 | Michigan Indian Legal Services, Inc | 159,845
Micronesia:
MP-1 | Micronesian Legal Services, Inc | 1,598,130
Minnesota:
MN-1 | Legal Aid Service of Northeastern Minnesota | 404,908
MN-4 | Legal Services of Northwest Minnesota Corporation | 362,901
MN-5 | Southern Minnesota Regional Legal Services, Inc | 1,179,358
MN-6 | Central Minnesota Legal Services, Inc | 1,268,918
MMN | Southern Minnesota Regional Legal Services, Inc | 193,854
NMN-1 | Anishinabe Legal Services, Inc | 232,054
Mississippi:
MS-9 | North Mississippi Rural Legal Services, Inc | 1,944,353
MS-10 | Mississippi Center for Legal Services | 2,912,397
MMS | Texas RioGrande Legal Aid, Inc | 55,297
NMS-1 | Choctaw Legal Defense | 80,718
Missouri:
MO-3 | Legal Aid of Western Missouri | 1,720,573
MO-4 | Legal Services of Eastern Missouri, Inc | 1,899,586
MO-5 | Mid-Missouri Legal Services Corporation | 378,675
MO-7 | Legal Services of Southern Missouri | 1,639,204
MMO | Legal Aid of Western Missouri | 78,931
Montana:
MT-1 | Montana Legal Services Association | 1,097,469
MMT | Montana Legal Services Association | 52,886
NMT-1 | Montana Legal Services Association | 154,612
Nebraska:
NE-4 | Legal Aid of Nebraska | 1,404,374
MNE | Legal Aid of Nebraska | 40,967
NNE-1 | Legal Aid of Nebraska | 32,097
Nevada:
NV-1 | Nevada Legal Services, Inc | 1,840,972
MNV | Nevada Legal Services, Inc | 2,438
NNV-1 | Nevada Legal Services, Inc | 129,120
New Hampshire:
NH-1 | Legal Advice & Referral Center, Inc | 694,175
New Jersey:
NJ-8 | Essex-Newark Legal Services Project, Inc | 1,053,312
NJ-12 | Ocean-Monmouth Legal Services, Inc | 645,151
NJ-15 | Legal Services of Northwest Jersey | 380,629
NJ-16 | South Jersey Legal Services, Inc | 1,295,769
NJ-17 | Central Jersey Legal Services, Inc | 1,057,659
NJ-18 | Northeast New Jersey Legal Services Corporation | 1,721,200
MNJ | South Jersey Legal Services, Inc | 116,913
New Mexico:
NM-1 | DNA-Peoples Legal Services, Inc | 210,318
NM-5 | New Mexico Legal Aid | 2,653,055
MNM | New Mexico Legal Aid | 84,622
NNM-2 | DNA-Peoples Legal Services, Inc | 22,060
NNM-4 | New Mexico Legal Aid | 451,172
New York:
NY-7 | Nassau/Suffolk Law Services Committee, Inc | 1,347,715
NY-9 | Legal Services for New York City | 14,794,406
NY-20 | Legal Services of the Hudson Valley | 1,733,586
NY-21 | Legal Aid Society of Northeastern New York, Inc | 1,302,034
NY-22 | Legal Aid Society of Mid-New York, Inc | 1,706,655
NY-23 | Legal Assistance of Western New York, Inc | 1,672,992
NY-24 | Neighborhood Legal Services, Inc | 1,302,733
MNY | Legal Aid Society of Mid-New York, Inc | 268,197
North Carolina:
NC-5 | Legal Aid of North Carolina, Inc | 8,072,566
MNC | Legal Aid of North Carolina, Inc | 519,293
NNC-1 | Legal Aid of North Carolina, Inc | 211,921
North Dakota:
ND-3 | Legal Services of North Dakota | 546,037
MND | Southern Minnesota Regional Legal Services, Inc | 112,307
NND-3 | Legal Services of North Dakota | 261,564
Ohio:
OH-5 | The Legal Aid Society of Columbus | 1,235,444
OH-17 | Ohio State Legal Services | 1,654,861
OH-18 | Legal Aid Society of Greater Cincinnati | 1,395,564
OH-20 | Community Legal Aid Services, Inc | 1,614,648
OH-21 | The Legal Aid Society of Cleveland | 2,054,329
OH-23 | Legal Aid of Western Ohio, Inc | 2,415,250
MOH | Legal Aid of Western Ohio, Inc | 122,049
Oklahoma:
OK-3 | Legal Aid Services of Oklahoma, Inc | 4,341,964
MOK | Legal Aid Services of Oklahoma, Inc | 60,630
NOK-1 | Oklahoma Indian Legal Services, Inc | 795,057
Oregon:
OR-6 | Legal Aid Services of Oregon | 2,944,294
MOR | Legal Aid Services of Oregon | 539,710
NOR-1 | Legal Aid Services of Oregon | 179,250
Pennsylvania:
PA-1 | Philadelphia Legal Assistance Center | 2,973,717
PA-5 | Laurel Legal Services, Inc | 738,798
PA-8 | Neighborhood Legal Services Association | 1,610,399
PA-11 | Southwestern Pennsylvania Legal Services, Inc | 536,752
PA-23 | Legal Aid of Southeastern Pennsylvania | 1,091,931
PA-24 | North Penn Legal Services, Inc | 1,741,876
PA-25 | MidPenn Legal Services, Inc | 2,130,983
PA-26 | Northwestern Legal Services | 702,841
MPA | Philadelphia Legal Assistance Center | 160,586
Puerto Rico:
PR-1 | Puerto Rico Legal Services, Inc | 15,685,832
PR-2 | Community Law Office, Inc | 332,080
MPR | Puerto Rico Legal Services, Inc | 281,703
Rhode Island:
RI-1 | Rhode Island Legal Services, Inc | 1,078,675
South Carolina:
SC-8 | South Carolina Legal Services, Inc | 4,718,515
MSC | South Carolina Legal Services, Inc | 191,650
South Dakota:
SD-2 | East River Legal Services | 391,581
SD-4 | Dakota Plains Legal Services, Inc | 464,059
MSD | Dakota Plains Legal Services, Inc | 3,845
NSD-1 | Dakota Plains Legal Services, Inc | 906,639
Tennessee:
TN-4 | Memphis Area Legal Services, Inc | 1,377,389
TN-7 | West Tennessee Legal Services, Inc | 642,597
TN-9 | Legal Aid of East Tennessee | 2,103,998
TN-10 | Lgl. Aid Soc. of Middle Tenn. and the Cumberlands | 2,507,508
MTN | Texas RioGrande Legal Aid, Inc | 61,454
Texas:
TX-13 | Lone Star Legal Aid | 9,292,756
TX-14 | Legal Aid of NorthWest Texas | 7,331,805
TX-15 | Texas RioGrande Legal Aid, Inc | 9,970,530
MTX | Texas RioGrande Legal Aid, Inc | 1,345,850
NTX-1 | Texas RioGrande Legal Aid, Inc | 30,390
Utah:
UT-1 | Utah Legal Services, Inc | 1,783,452
MUT | Utah Legal Services, Inc | 65,720
NUT-1 | Utah Legal Services, Inc | 79,886
Vermont:
VT-1 | Legal Services Law Line of Vermont, Inc | 489,610
Virgin Islands:
VI-1 | Legal Services of the Virgin Islands, Inc | 313,062
Virginia:
VA-15 | Southwest Virginia Legal Aid Society, Inc | 795,045
VA-16 | Legal Aid Society of Eastern Virginia | 1,373,472
VA-17 | Virginia Legal Aid Society, Inc | 827,623
VA-18 | Central Virginia Legal Aid Society, Inc | 975,681
VA-19 | Blue Ridge Legal Services, Inc | 688,403
VA-20 | Potomac Legal Aid Society | 1,071,971
MVA | Central Virginia Legal Aid Society, Inc | 152,816
Washington:
WA-1 | Northwest Justice Project | 4,781,018
MWA | Northwest Justice Project | 707,224
NWA-1 | Northwest Justice Project | 276,611
West Virginia:
WV-5 | Legal Aid of West Virginia, Inc | 2,794,821
MWV | Legal Aid of West Virginia, Inc | 35,419
Wisconsin:
WI-2 | Wisconsin Judicare, Inc | 853,560
WI-5 | Legal Action of Wisconsin, Inc | 3,105,042
MWI | Legal Action of Wisconsin, Inc | 88,216
NWI-1 | Wisconsin Judicare, Inc | 150,626

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2009.

Dated: November 6, 2008.
Janet LaBella,
Director, Office of Program Performance, Legal Services Corporation.

[FR Doc. E8-26931 Filed 11-13-08; 8:45 am]

BILLING CODE 7050-01-P